INTERNATIONAL TRADE COMMISSION

[Investigation No. 701-TA-501 (Second Review)]

Chlorinated Isocyanurates From China; Determination

On the basis of the record ¹ developed in the subject five-year review, the United States International Trade Commission (“Commission”) determines, pursuant to the Tariff Act of 1930 (“the Act”), that revocation of the countervailing duty order on chlorinated isocyanurates from China would be likely to lead to continuation or recurrence of material injury to an industry in the United States within a reasonably foreseeable time.

¹ The record is defined in § 207.2(f) of the Commission's Rules of Practice and Procedure (19 CFR 207.2(f)).

Background

The Commission instituted this review on April 1, 2025 (90 FR 14378) and determined on July 7, 2025, that it would conduct an expedited review (90 FR 38994, August 13, 2025).

The Commission made this determination pursuant to section 751(c) of the Act (19 U.S.C. 1675(c)). It completed and filed its determination in this review on November 19, 2025. The views of the Commission are contained in USITC Publication 5677 (November 2025), entitled Chlorinated Isocyanurates from China: Investigation No. 701-TA-501 (Second Review).

By order of the Commission.
Issued: November 19, 2025.
Lisa Barton,
Secretary to the Commission.

[FR Doc. 2025-20645 Filed 11-20-25; 8:45 am]

BILLING CODE 7020-02-P